DEPARTMENT OF ENERGY

Federal Energy Regulatory Commission

Notice of Commission Closing and Filing Deadlines

January 14, 2009.

Take notice that January 20, 2009, Inauguration Day, is a legal public holiday for the Washington, DC, office of the Federal Energy Regulatory Commission.

In accordance with section 385.2007 of the Commission's rules, 18 CFR 385.2007 (2008), all filings and documents due to be filed on Tuesday, January 20, 2009, will be accepted as timely on the next official business day.

Kimberly D. Bose,
Secretary.

[FR Doc. E9-1355 Filed 1-22-09; 8:45 am]

BILLING CODE 6717-01-P